DEPARTMENT OF COMMERCE

International Trade Administration

North American Free Trade Agreement (NAFTA), Article 1904 Binational Panel Review: Notice of NAFTA Panel Order

AGENCY: United States Section, NAFTA Secretariat, International Trade Administration, Department of Commerce.

ACTION: Notice of NAFTA Panel Order in the matter of Ammonium Sulphate from the United States of America. (Secretariat File Number: MEX-USA-2015-1904-01).

SUMMARY: On July 19, 2022, a NAFTA Binational Panel issued an Order pursuant to NAFTA Article 1904(8) and Rules 72, 73(5), and 77 of the NAFTA Rules of Procedure for Article 1904 Binational Panel Reviews in the matter of Ammonium Sulphate from the United States of America (Determination on Remand). The Binational Panel affirmed the Secretaria de Economia's Fourth Determination on Remand.

FOR FURTHER INFORMATION CONTACT: Vidya Desai, United States Secretary, NAFTA Secretariat, Room 2061, 1401 Constitution Avenue NW, Washington, DC 20230, (202) 482-5438.

SUPPLEMENTARY INFORMATION: Article 1904 of chapter 19 of NAFTA provides a dispute settlement mechanism involving trade remedy determinations issued by the Government of the United States, the Government of Canada, and the Government of Mexico. Following a Request for Panel Review, a Binational Panel is composed to provide judicial review of the trade remedy determination. There are established NAFTA Rules of Procedure for Article 1904 Binational Panel Reviews. For the complete Rules, please see https://can-mex-usa-sec.org/secretariat/agreement-accord-acuerdo/nafta-alena-tlcan/rules-regles-reglas/article-article-articulo_1904.aspx?lang=eng.

Dated: August 4, 2022.
Vidya Desai,
Secretary of U.S. Section, NAFTA Secretariat.

[FR Doc. 2022-17082 Filed 8-8-22; 8:45 am]

BILLING CODE 3510-GT-P